NATIONAL CREDIT UNION ADMINISTRATION

Sunshine Act Meeting; Notice of Meetings

TIME AND DATE: 10:00 a.m., Thursday, April 19, 2001.

PLACE: Board Room, 7th Floor, Room 7047, 1775 Duke Street, Alexandria, VA 22314-3428.

STATUS: Open.

MATTERS TO BE CONSIDERED: 1. Request from Two (2) Federal Credit Unions to Convert to Community Charters.

2. Request from a Corporate Federal Credit Union for a National Field of Membership.

3. Request for a Merger of Two (2) Corporate Credit Unions.

4. Proposed Rule: Amendment to Part 701, NCUA's Rules and Regulations, Nondiscrimination in Advertising.

5. Final Rule: Part 705, NCUA's Rules and Regulations, Community Development Revolving Loan Program for Credit Unions (CDRLP).

6. Final Interpretive Ruling and Policy Statement regarding Central Liquidity Facility.

RECESS: 11:15 a.m.

TIME AND DATE: 11:30 a.m., Thursday, April 19, 2001.

PLACE: Board Room, 7th Floor, Room 7047, 1775 Duke Street, Alexandria, VA 22314-3428.

STATUS: Closed.

MATTERS TO BE CONSIDERED: 1. Administrative Action under Part 704 of NCUA's Rules and Regulations. Closed pursuant to exemption (8).

2. Budget Reprogramming. Closed pursuant to exemption (2).

3. One (1) Personnel Matter. Closed pursuant to exemptions (2) and (6).

FOR FURTHER INFORMATION CONTACT: Becky Baker, Secretary of the Board, Telephone 703-518-6304.

Becky Baker,
Secretary of the Board.

[FR Doc. 01-9552 Filed 4-12-01; 4:52 pm]

BILLING CODE 7535-01-M